DEPARTMENT OF TRANSPORTATION

Federal Highway Administration

[4910-22]

Notice of Scoping for Highway Project in Pierce County, Washington

AGENCY: Federal Highway Administration (FHWA), DOT.

ACTION: Notice of Scoping—Environmental Assessment/Environmental Impact Statement.

SUMMARY: The FHWA is issuing this notice to advise the pubic that environmental impact scoping will be prepared for a proposed highway project in Pierce County, Washington. Based upon this scoping information, a decision will be made as to whether to prepare an environmental assessment or an environmental impact statement.

FOR FURTHER INFORMATION CONTACT: Dean Moberg, Area Engineer, Federal Highway Administration, 711 South Capitol Way, Suite 501, Olympia, Washington 98501, Telephone: (360) 534-9344.

SUPPLEMENTARY INFORMATION: The FHWA, in cooperation with the Washington State Department of Transportation (WSDOT) will prepare either an Environmental Assessment (EA) or an Environmental Impact Statement (EIS) on a proposal to provide improvements along the I-5 corridor between the interchanges with Gravelly Lake Drive and Mounts Road to relieve chronic congestion and improve person and freight mobility. Improvements to the corridor are considered necessary to provide for the existing and projected traffic demand after receiving all public and private scoping comments and feedback on the project's impacts that will determine the appropriate environmental document.

Alternatives under consideration include: (1) Taking no action; (2) a two-phased proposed action, first phase to be built upon availability of funding. The second phase would be implemented in the future when warranted by traffic demand and resulting congestion. The first phase would add one HOV lane both northbound and southbound, rebuild three interchanges (Thorne Ln.; Berkely St.; and Steilacoom DuPont Rd.), and include other improvements. The future phase would add an additional managed lane both northbound and southbound and include revisions to other interchanges in the corridor.

FHWA and WSDOT are holding a public scoping meeting on May 5, 2015 from 4-7 p.m. at the McGavick Conference Center on the campus of Clover Park Technical College in Lakewood to solicit public comments regarding issues to be addressed in the EA or EIS. The meeting will use an informal, open-house format. Exhibits, maps, and other pertinent information about this project will be displayed. Staff will be present to answer questions as appropriate and as time permits.

Agencies, Tribes, and the public are encouraged to submit comments on the purpose and need and preliminary range of alternatives during the scoping period. Comments must be received by May 18, 2015 to be included in the formal scoping record. To ensure that the full range of issues related to this proposed action is addressed, and all the significant issues identified, comments and suggestions are invited from interested parties during the scoping period. Comments concerning this proposal will be accepted at the public meeting or can be sent by mail to Bill Elliott, Plans Engineer, Washington State Department of Transportation, 5720 Capitol Blvd. SE Bldg 7, Tumwater, Washington 98501, or ELLIOTB@wsdot.wa.gov.

If significant environmental impacts are discovered during the environmental analysis which cannot be mitigated to a non-significant level an environmental impact statement (EIS) will be prepared for the project. If this happens, no additional scoping meetings will be held. However, another Notice of Intent to prepare an EIS will published in the Federal and SEPA registers, announcing a future deadline for submitting written comments on the EIS's scope of the alternatives and impacts to be considered. See Question 13 in the Council on Environmental Quality's Forty Most Asked Questions 46 FR 18026 (March 23, 1981).

Daniel M. Mathis,
Division Administrator, Olympia, Washington.

[FR Doc. 2015-09096 Filed 4-20-15; 8:45 am]

BILLING CODE 4910-22-P